SMALL BUSINESS ADMINISTRATION

[Declaration of Disaster #3281]

State of New Jersey

As a result of the President's major disaster declaration on August 17, 2000, I find that Morris and Sussex Counties in the State of New Jersey constitute a disaster area due to damages caused by severe storms, flooding, and mudslides beginning on August 12, 2000 and continuing. Applications for loans for physical damage as a result of this disaster may be filed until the close of business on October 16, 2000, and for loans for economic injury until the close of business on May 17, 2001 at the address listed below or other locally announced locations: U.S. Small Business Administration, Disaster Area 1 Office, 360 Rainbow Blvd., South, 3rd Floor, Niagara Falls, NY 14303.

In addition, applications for economic injury loans from small businesses located in the following contiguous counties may be filed until the specified date at the above location: Essex, Hunterdon, Passaic, Somerset, Union, and Warren Counties in New Jersey; Orange County, New York; and Pike County, Pennsylvania.

The interest rates are:

For Physical Damage: Homeowners with credit available elsewhere—7.375%; Homeowners without credit available elsewhere—3.687%; Businesses with credit available elsewhere—8.000%; Businesses and non-profit organizations without credit available elsewhere—4.000%; Others (including non-profit organizations) with credit available elsewhere—6.750%.

For Economic Injury: Businesses and small agricultural cooperatives without credit available elsewhere—4.000%.

The number assigned to this disaster for physical damage is 328106. For economic injury the numbers are 9I3700 for New Jersey, 9I3800 for New York, and 9I3900 for Pennsylvania.

(Catalog of Federal Domestic Assistance Program Nos. 59002 and 59008)

Dated: August 21, 2000.
Becky C. Brantley,
Acting Associate Administrator for Disaster Assistance.

[FR Doc. 00-21964 Filed 8-28-00; 8:45 am]

BILLING CODE 8025-01-U